DEPARTMENT OF ENERGY

Federal Energy Regulatory Commission

Combined Notice of Filings #1

Take notice that the Commission received the following exempt wholesale generator filings:

Docket Numbers: EG19-11-000.

Applicants: Indian Mesa Wind, LLC.

Description: Notice of Self-Certification of Exempt Wholesale Generator Status of Indian Mesa Wind, LLC.

Filed Date: 10/18/18.

Accession Number: 20181018-5076.

Comments Due: 5 p.m. ET 11/8/18.

Docket Numbers: EG19-12-000.

Applicants: Woodward Mountain Wind, LLC.

Description: Notice of Self-Certification of Exempt Wholesale Generator Status of Woodward Mountain Wind, LLC.

Filed Date: 10/18/18.

Accession Number: 20181018-5077.

Comments Due: 5 p.m. ET 11/8/18.

Take notice that the Commission received the following electric rate filings:

Docket Numbers: ER17-1314-002.

Applicants: Arkwright Summit Wind Farm LLC.

Description: Notice of Non-Material Change in Status of Arkwright Summit Wind Farm LLC.

Filed Date: 10/17/18.

Accession Number: 20181017-5200.

Comments Due: 5 p.m. ET 11/7/18.

Docket Numbers: ER19-127-000.

Applicants: PJM Interconnection, L.L.C.

Description: Compliance filing: Settlement in Docket No. EL18-153 and Request for Shortened Comment Period to be effective N/A.

Filed Date: 10/17/18.

Accession Number: 20181017-5138.

Comments Due: 5 p.m. ET 10/25/18.

Docket Numbers: ER19-128-000.

Applicants: PJM Interconnection, L.L.C.

Description: Compliance filing: Settlement in Docket No. EL18-179 and Request for Shortened Comment Period to be effective N/A.

Filed Date: 10/17/18.

Accession Number: 20181017-5139.

Comments Due: 5 p.m. ET 10/25/18.

Docket Numbers: ER19-129-000.

Applicants: PJM Interconnection, L.L.C.

Description: Compliance filing: Settlement in Docket No. EL18-180 and Request for Shortened Comment Period to be effective N/A.

Filed Date: 10/17/18.

Accession Number: 20181017-5140.

Comments Due: 5 p.m. ET 10/25/18.

Docket Numbers: ER19-130-000.

Applicants: Midcontinent Independent System Operator, Inc., ALLETE, Inc.

Description: § 205(d) Rate Filing: 2018-10-17_SA 3182 MP-GRE T-L IA (Straight River) to be effective 10/18/2018.

Filed Date: 10/17/18.

Accession Number: 20181017-5146.

Comments Due: 5 p.m. ET 11/7/18.

Docket Numbers: ER19-131-000.

Applicants: Southwest Power Pool, Inc.

Description: § 205(d) Rate Filing: Revisions to Attachment AE to Remove References to NERC Standards to be effective 12/18/2018.

Filed Date: 10/17/18.

Accession Number: 20181017-5148.

Comments Due: 5 p.m. ET 11/7/18.

Docket Numbers: ER19-132-000.

Applicants: Niagara Mohawk Power Corporation, New York Independent System Operator, Inc.

Description: § 205(d) Rate Filing: NMPC 205 filing to revise depreciation rates in NYISO OATT to be effective 4/1/2018.

Filed Date: 10/17/18.

Accession Number: 20181017-5149.

Comments Due: 5 p.m. ET 11/7/18.

Docket Numbers: ER19-133-000.

Applicants: Midcontinent Independent System Operator, Inc., ALLETE, Inc.

Description: § 205(d) Rate Filing: 2018-10-17_SA 3184 MP-GRE T-L IA (Savanna-Cedar) to be effective 10/18/2018.

Filed Date: 10/17/18.

Accession Number: 20181017-5163.

Comments Due: 5 p.m. ET 11/7/18.

Docket Numbers: ER19-134-000.

Applicants: PacifiCorp.

Description: § 205(d) Rate Filing: Invenergy Wind E&P Agreements to be effective 9/18/2018.

Filed Date: 10/17/18.

Accession Number: 20181017-5176.

Comments Due: 5 p.m. ET 11/7/18.

Docket Numbers: ER19-135-000.

Applicants: Peony Solar LLC.

Description: Baseline eTariff Filing: Baseline new to be effective 11/1/2018.

Filed Date: 10/17/18.

Accession Number: 20181017-5185.

Comments Due: 5 p.m. ET 11/7/18.

Docket Numbers: ER19-136-000.

Applicants: NorthWestern Corporation.

Description: Notice of Cancellation of First Revised Service Agreement No. 321-MT of Northwestern Corporation.

Filed Date: 10/17/18.

Accession Number: 20181017-5214.

Comments Due: 5 p.m. ET 11/7/18.

Docket Numbers: ER19-137-000.

Applicants: Midcontinent Independent System Operator, Inc.

Description: § 205(d) Rate Filing: 2018-10-18_SA 3180 Dunns Bridge Solar-NIPSCO GIA (J643) to be effective 10/3/2018.

Filed Date: 10/18/18.

Accession Number: 20181018-5036.

Comments Due: 5 p.m. ET 11/8/18.

Docket Numbers: ER19-138-000.

Applicants: New York Independent System Operator, Inc.

Description: § 205(d) Rate Filing: Revisions to Table 1A of Attachment L of the OATT to be effective 12/18/2018.

Filed Date: 10/18/18.

Accession Number: 20181018-5053.

Comments Due: 5 p.m. ET 11/8/18.

Docket Numbers: ER19-139-000.

Applicants: New York Independent System Operator, Inc.

Description: § 205(d) Rate Filing: OATT 31.7 revisions: Historic Congestion Reporting Requirements to be effective 12/18/2018.

Filed Date: 10/18/18.

Accession Number: 20181018-5062.

Comments Due: 5 p.m. ET 11/8/18.

Docket Numbers: ER19-140-000.

Applicants: ISO New England Inc.

Description: § 205(d) Rate Filing: Filing to Correct Administrative Error in Section IV.A Submitted in ER18-85-000 to be effective 1/1/2018.

Filed Date: 10/18/18.

Accession Number: 20181018-5075.

Comments Due: 5 p.m. ET 11/8/18.

Docket Numbers: ER19-141-000.

Applicants: Public Service Company of Colorado.

Description: § 205(d) Rate Filing: PSCo-BLDR-T-2018-2-Spec Study-514-0.0.0-Filing to be effective 10/19/2018.

Filed Date: 10/18/18.

Accession Number: 20181018-5082.

Comments Due: 5 p.m. ET 11/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 18, 2018.
Nathaniel J. Davis, Sr.,
Deputy Secretary.

[FR Doc. 2018-23213 Filed 10-23-18; 8:45 am]

BILLING CODE 6717-01-P